DEPARTMENT OF THE INTERIOR

National Park Service

[N6836; NPS-WASO-NAGPRA-NPS0041697; PPWOCRADN0-PCU00RP14.R50000]

Notice of Inventory Completion: California State Department of Transportation, Sacramento, CA

AGENCY: National Park Service, Interior.

ACTION: Notice.

SUMMARY: In accordance with the Native American Graves Protection and Repatriation Act (NAGPRA), the California State Department of Transportation (Caltrans) has completed an inventory of associated funerary objects and has determined that there is a cultural affiliation between the associated funerary objects and Indian Tribes or Native Hawaiian organizations in this notice.

DATES: Repatriation of the associated funerary objects in this notice may occur on or after February 6, 2026.

ADDRESSES: Send written requests for repatriation of the associated funerary objects in this notice to Lisa Bright, Cultural Resources (South), California State Department of Transportation, 703 B Street, Marysville, CA 95901, email Lisa.Bright@dot.ca.gov.

SUPPLEMENTARY INFORMATION: This notice is published as part of the National Park Service's administrative responsibilities under NAGPRA. The determinations in this notice are the sole responsibility of Caltrans, and additional information on the determinations in this notice, including the results of consultation, can be found in the inventory or related records. The National Park Service is not responsible for the determinations in this notice.

Abstract of Information Available

The 28,879 associated funerary objects are stone artifacts (mortars, pestles, milling slabs, hand stones and anvils), flaked stone (bifaces, projectile points, cores, scrapers, edge modified flakes and debitage), faunal bone, including bone ornaments and awls, shell beads, stone pendants, perforated stone discs, tabular sandstone artifacts, worked pieces of red ochre, quartz crystals and charmstones. The associated funerary objects were recovered during archaeological investigations in support of Caltrans YOL 16 Safety Improvements Project from CA-YOL-125, in Yolo County, California, between the community of Brooks and Interstate 505. Accession 507 was created during Phase II investigations (December 2003-February 2005), and Accession 508 was created during the PHIII data recovery. No potentially hazardous substances were used to treat any of the associated funerary objects.

Cultural Affiliation

Based on the information available and the results of consultation, cultural affiliation is clearly identified by the information available about the associated funerary objects described in this notice.

Determinations

The California Department of Transportation has determined that:

• The 28,879 objects described in this notice are reasonably believed to have been placed intentionally with or near individual human remains at the time of death or later as part of the death rite or ceremony.

• There is a reasonable connection between the associated funerary objects described in this notice and the Cachil DeHe Band of Wintun Indians of the Colusa Indian Community of the Colusa Rancheria, California; Kletsel Dehe Wintun Nation of the Cortina Rancheria (previously listed as Kletsel Dehe Band of Wintun Indians); and the Yocha Dehe Wintun Nation, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after February 6, 2026. If competing requests for repatriation are received, the California Department of Transportation must determine the most appropriate requestor prior to repatriation. Requests for joint repatriation of the associated funerary objects are considered a single request and not competing requests. The California Department of Transportation is responsible for sending a copy of this notice to the Indian Tribes and Native Hawaiian organizations identified in this notice.

Authority: Native American Graves Protection and Repatriation Act, 25 U.S.C. 3003, and the implementing regulations, 43 CFR 10.10.

Dated: December 18, 2025.
Melanie O'Brien,
Manager, National NAGPRA Program.

[FR Doc. 2026-00067 Filed 1-6-26; 8:45 am]

BILLING CODE 4312-52-P